NUCLEAR REGULATORY COMMISSION

[Docket No. 50-2]

Notice of Issuance of Decommissioning Amendment for University of Michigan Ford Nuclear Reactor

The U.S. Nuclear Regulatory Commission (NRC) is noticing the approval of the University of Michigan decommissioning plan (DP) by amendment to the Facility Operating License for the Ford Nuclear Reactor (FNR).

The FNR is located in the Phoenix Memorial Laboratory on the North Campus of the University in Ann Arbor, Michigan. The reactor was licensed to operate at 2 Megawatt thermal power. After the initial startup of the FNR in 1957, the reactor ceased operations on July 3, 2003.

The licensee submitted the FNR DP to the NRC for review and approval in a letter dated June 8, 2004, as supplemented on June 23, 2004, January 5, 2006 and January 10, 2006. The NRC approved the DP by Amendment No. 50 to the FNR Operating License No. R-28 on June 22, 2006.

A “Notice and Solicitation of Comments Pursuant to 10 CFR 20.1405 and 10 CFR 50.82(b)(5) Concerning Proposed Action to Decommission the University of Michigan Ford Nuclear Reactor” was published in the Federal Register on September 8, 2004 (69 FR 54326-54327) and in The Ann Arbor News on September 9, 2004. On June 7, 2006, the NRC staff consulted with the Environmental Coordinator for the City of Ann Arbor, Michigan. No comments were received.

A copy of the license amendment approving the University of Michigan's proposed decommissioning plan is available for public inspection at the Commission's Public Document Room (PDR), located at One White Flint North, 11555 Rockville Pike (first floor), Rockville, Maryland, 20855-2738. The NRC maintains an Agencywide Documents Access and Management System (ADAMS), which provides text and image files of NRC's public documents. The amendment may be accessed electronically from the ADAMS Public Electronic Reading Room on the Internet at the NRC Web site, http://www.nrc.gov/reading-rm/adams.html under ADAMS accession number ML061220260. Persons who do not have access to ADAMS, or have problems in accessing the documents located in ADAMS, may contact the NRC PDR Reference staff by phone at 1-800-397-4209, 301-415-4737, or by e-mail to pdr@nrc.gov.

Dated at Rockville, Maryland, this June 30, 2006.
For the Nuclear Regulatory Commission.
Brian E. Thomas,
Branch Chief, Research and Test Reactors Branch, Division of Policy and Rulemaking, Office of Nuclear Reactor Regulation.

[FR Doc. E6-12441 Filed 8-1-06; 8:45 am]

BILLING CODE 7590-01-P